DEPARTMENT OF AGRICULTURE

Food and Nutrition Service

National Advisory Council on Maternal, Infant and Fetal Nutrition; Notice of Meeting

AGENCY: Food and Nutrition Service, USDA.

ACTION: Notice of meeting.

SUMMARY: Pursuant to the Federal Advisory Committee Act, this notice announces a meeting of the National Advisory Council on Maternal, Infant and Fetal Nutrition.

DATES: July 25-27, 2007, 9 a.m.-5 p.m.

ADDRESSES: The meeting will be held at the Hilton Springfield, 6550 Loisdale Road, Springfield, Virginia 22150.

FOR FURTHER INFORMATION CONTACT: Anne Bartholomew, Supplemental Food Programs Division, Food and Nutrition Service, Department of Agriculture, (703) 305-2086.

SUPPLEMENTARY INFORMATION: The Council will continue its study of the Special Supplemental Nutrition Program for Women, Infants and Children, and the Commodity Supplemental Food Program. The agenda items will include a discussion of general program issues. Meetings of the Council are open to the public. Members of the public may participate, as time permits. Members of the public may file written statements before or after the meeting with Anne Bartholomew, Supplemental Food Programs Division, 3101 Park Center Drive, Room 522, Alexandria, Virginia 22302. If members of the public need special accommodations, please notify Ms. Anita Cunningham by June 18, 2007, at (703) 305-0986, or by e-mail at anita.cunningham@fns.usda.gov.

Dated: May 31, 2007.
Roberto Salazar,
Administrator.

[FR Doc. E7-11485 Filed 6-13-07; 8:45 am]

BILLING CODE 3410-30-P